DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of this person is blocked, and U.S. persons are generally prohibited from engaging in transactions with them.

DATES: This action was issued on January 15, 2025. See SUPPLEMENTARY INFORMATION section for relevant dates.

FOR FURTHER INFORMATION CONTACT: OFAC: Associate Director for Global Targeting, 202-622-2420; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Actions

On January 15, 2025, OFAC determined that the person identified below meets one or more of the criteria for the imposition of sanctions set forth in section 11(a) of Executive Order 14024 of April 15, 2021, “Blocking Property With Respect To Specified Harmful Foreign Activities of the Government of the Russian Federation,” (E.O. 14024), as amended by Executive Order 14114 of December 22, 2023, “Taking Additional Steps With Respect to the Russian Federation's Harmful Activities” (E.O. 14114). OFAC has determined to impose blocking sanctions pursuant to section 11(b)(ii) of E.O. 14024, as amended by E.O. 14114 on the person identified below, and therefore all of the person's property and interests in property that are in the United States, that hereafter come within the United States, or that are or hereafter come within the possession or control of any United States person, are blocked, and such property and interests in property may not be transferred, paid, exported, withdrawn, or otherwise dealt in.

Entity

1. OJSC KEREMET BANK, 40/4 Togolok Moldo str, Bishkek 720001, Kyrgyzstan; SWIFT/BIC RINBKG22; website https://keremetbank.kg; Secondary sanctions risk: See Section 11 of Executive Order 14024.; BIK (RU) 136001; Target Type Financial Institution; Tax ID No. 02012201010017 (Kyrgyzstan); Global Intermediary Identification Number NNNQ6K.99999.SL417 [RUSSIA-EO14024].

Designated pursuant to section 11(a)(ii) of Executive Order 14024 of April 15, 2021, “Blocking Property With Respect To Specified Harmful Foreign Activities of the Government of the Russian Federation,” 86 FR 20249, 3 CFR, 2021 Comp., p. 542 (Apr. 15, 2021) (E.O. 14024) as amended by Executive Order 14114 of December 22, 2023, “Taking Additional Steps With Respect to the Russian Federation's Harmful Activities,” 88 FR 89271, 3 CFR, 2023 Comp., p. 721 (Dec. 22, 2023) (E.O. 14114) for having conducted or facilitated any significant transaction or transactions, or provided any service, involving Russia's military-industrial base, including the sale, supply, or transfer, directly or indirectly, to the Russian Federation of any item or class of items as may be determined by the Secretary of the Treasury, in consultation with the Secretary of State and the Secretary of Commerce.

Lisa M. Palluconi,
Acting Director, Office of Foreign Assets Control.

[FR Doc. 2025-01578 Filed 1-22-25; 8:45 am]

BILLING CODE 4810-AL-P